SECURITIES AND EXCHANGE COMMISSION

[Release No. 34-61716; File No. SR-CBOE-2010-008]

Self-Regulatory Organizations; Chicago Board Options Exchange, Incorporated; Order Approving a Proposed Rule Change Relating to Co-location Service Fees

March 16, 2010.

Correction

In notice document 2010-6184 beginning on page 13625 in the issue of Monday, March 22, 2010, make the following correction:

On page 13625, the heading is corrected to read as set forth above.

[FR Doc. C1-2010-6184 Filed 3-29-10; 8:45 am]

BILLING CODE 1505-01-D